DEPARTMENT OF COMMERCE

National Oceanic and Atmospheric Administration

RIN 0648-XE577

Endangered and Threatened Species; Take of Anadromous Fish

AGENCY: National Marine Fisheries Service (NMFS), National Oceanic and Atmospheric Administration (NOAA), Commerce.

ACTION: Applications for four new scientific research permits and four permit renewals.

SUMMARY: Notice is hereby given that NMFS has received eight scientific research permit application requests relating to Pacific salmon, steelhead, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on May 25, 2016.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Endangered upper Columbia River (UCR); threatened Lower Columbia River (LCR); threatened Snake River (SR); threatened upper Willamette River (UWR).

Steelhead (O. mykiss): Threatened LCR; threatened UCR; threatened SR; threatened UWR; threatened middle Columbia River (MCR).

Chum salmon (O. keta): Threatened Columbia River (CR).

Coho salmon (O. kisutch): Threatened LCR.

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1560-3R

The United States Geological Survey (USGS) has requested a permit to annually take juvenile and adult LCR Chinook and coho, CR chum, and MCR steelhead while conducting research designed to (1) determine the diversity and distribution of fish species in the White Salmon River and tributaries, (2) compare populations of salmonids in the White Salmon and tributaries to pre-dam removal levels, (3) contribute to complimentary efforts by WDFW to characterize life history, genetics, and fish health of Chinook stocks in the lower White Salmon River. The USGS would capture fish by using a screw trap and backpack electrofishing equipment. Captured fish would be anesthetized, measured, weighed, and inspected for external diseases. Researchers would take fin clips of some captured fish in order to collect genetic tissues. Some juvenile fish would be PIT tagged to determine smolt trap efficiency and provide life history information through recaptures and detections at Bonneville Dam as juveniles or adults. The researchers would avoid adult salmonids, but some may be encountered as an unintentional result of sampling. The researchers do not expect to kill any listed salmonids but a small number may die as an unintended result of the research activities.

Permit 15549-2R

The Columbia River Inter-Tribal Fish Commission (CRITFC) is seeking a five-year permit to expand on and extend work previously conducted under other research permits (Permits 1532 and 15549). The research would take place in Satus, Ahtanum, Naches, and Toppenish Creeks in Washington State. The researchers wish to take juvenile MCR steelhead during the course of research designed to determine the fishes' freshwater movements and examine how those movements are affected by the area's substantially altered hydrograph. They would also collect baseline information on stock status and yearly abundance and seek to determine whether repeat spawners from a kelt reconditioning program are successfully reproducing.

The fish would be captured using screw traps and backpack electrofishing equipment. They would then be anesthetized and measured. Some would be tissue-sampled for DNA and some would receive passive integrated transponder (PIT) tags. The information gathered would be used to determine the fishes' movements and abundance and monitor the ongoing status of the various MCR steelhead populations in the Yakima River subbasin. The research would benefit the fish by helping managers determine the effectiveness of current recovery measures and design new ones where needed. The CRITFC does not plan to kill any of the fish being captured, but a few may die as an unintentional result of the research.

Permit 16122-2R

The Colville Confederated Tribes (CCT) are seeking a five-year permit to take juvenile UCR steelhead in the Okanogan River, Washington. The purpose of the research is to monitor steelhead populations in the basin. The researchers are seeking to estimate natural production and productivity and calculate annual population estimates, egg-to-emigrant survival, and emigrant-to-adult survival rates. The population estimates would be used to evaluate the effects of supplementation programs in the Okanogan River Basin and provide managers with the data they need to determine spawning success. The research would benefit the fish by giving state and Federal managers information on UCR steelhead status and the degree to which they are being affected by supplementation programs in the area. The fish would be captured at screw trapping sites on the Okanogan River. All captured fish would be identified and checked for marks and tags. A subsample of selected fish would be measured and weighed before being released back into the Okanogan River. A further subsample would be marked with a brown dye, released upstream of the screw traps, and recaptured for the purpose of determining trap efficiency. The researchers do not intend to kill any listed salmonids, but a small number may die as an unintended result of the activities.

Permit 16290-3R

The Oregon Department of Fish and Wildlife (ODFW) is seeking to renew permit 16290 for five years. The permit would authorize ODFW to take listed salmonids while conducting research on the Oregon Chub. The purpose of the research is to study the distribution, abundance, and factors limiting the recovery of Oregon chub. The ODFW would capture, handle, and release juvenile UWR Chinook salmon, UWR steelhead, LCR Chinook salmon, LCR steelhead, LCR coho salmon, and CR chum salmon while conducting the research. The Oregon chub is endemic to the Willamette Valley of Oregon and the habitats it depends on are also important to salmonids. Research on the Oregon chub would benefit listed salmonids by helping managers recover habitats shared by the species. The ODFW researchers would use boat electrofishing equipment, minnow traps, beach seines, dip nets, hoop nets, and fyke nets to capture juvenile fish. Researchers would avoid contact with adult fish. If listed salmonids are captured during the research they would be released immediately. The researchers do not expect to kill any listed salmonids but a small number may die as an unintended result of the research activities.

Permit 19778

The Confederated Tribes of the Colville Reservation (CCT) are seeking a five-year permit to monitor UCR steelhead population sizes, habitat use, and emigration rates in the Okanogan River and its tributaries in Washington State. Much of the proposed work for this permit was already being conducted under a previous permit (18049—now in its last year), but the CCT wanted to expand on that work, so rather than applying for a modification, they determined to seek an entirely new permit. The researchers would conduct their work in randomly-selected sites on eleven tributaries to the Okanogan River. They would capture juvenile steelhead using backpack electrofishing units and soft-mesh dipnets. The captured fish would be anesthetized and measured, and any steelhead greater than 95mm in fork length would be marked with a 12mm passive integrated transponder (PIT) tag injected from a single-use needle. All fish less than 95mm in length would have their caudal fins clipped for marking purposes and, in some cases, the tissue would be retained for DNA analysis. The researchers would make two passes with the electrofishing unit in each stream reach. The research would benefit the listed fish in two ways: First, UCR steelhead status in the Okanogan River subbasin is poorly understood and the information generated by the research would fill that gap and thereby help managers design recovery strategies for the listed fish in that area; it would also help them guide and mitigate any future land management activities that could affect the fish. Second, the collected genetic material would be used to examine the relationship between natural and hatchery fish in the area—and given that hatchery influence is considered a limiting factor for the UCR steelhead, more knowledge about that interaction would help managers design actions to address the negative effects local hatchery programs may be having. The researchers do not intend to kill any of the fish being captured, but a small number may die as an inadvertent result of the research activities.

Permit 19846

The Idaho Power Company (IPC) is seeking a five-year permit to take juvenile and adult SR steelhead during the course of research designed to assess fish communities in and around the reservoirs formed by the Hells Canyon Complex of dams on the Snake River between Oregon and Idaho. The research encompasses six studies, but only two of them have the potential to affect salmonids listed under the ESA (1) winder bull trout surveys in the area between the Hells Canyon Complex and the Snake River's confluence with the Grande Ronde River; and (2) surveys for white sturgeon ion the mainstem Snake River downstream from the confluence with the Clearwater River in Idaho. Both of these studies have previously been conducted and covered under an ESA section 4(d) authorization overseen by the states, but it has since been determined that the most effective way of covering the actions would be for the IPC to seek a new section 10 permit. The bull trout study would be conducted during the winter via hook-and-line angling using barbless hooks. Any listed fish that are captured would immediately be released without further sampling, anesthetizing, etc. The white sturgeon study would be conducted using baited setlines on the bottom of the reservoirs and channel. The placement and timing of the setlines are such that it is very unlikely that any listed salmonids would be captured—none have been collected during the previous 30,000+ hours setlines have been in use under the 4(d) authorizations, but the captures could still take place. If such an event does occur, the listed fish would immediately be release without the researchers taking any further action.

The research would benefit listed fish by gathering information on fish community health over a several tens of miles of mainstem habitat. That information, in turn, would be used by IPC managers to balance water releases from the Hells Canyon dams, guide restoration projects, and make other management decisions for the benefit of the fish. The researchers do not intend to kill any listed salmonids, but a few may dies as an inadvertent result of the activities.

Permit 19847

The U.S. Fish and Wildlife Service (FWS) is seeking a five-year permit to take juvenile SR steelhead while conducting a study to assess abundance and habitat use among juvenile Pacific lamprey in the Snake River and some of its tributaries. The researchers are proposing to conduct stream surveys for juvenile Pacific lamprey Lampretra tridentatus using a specialized backpack electroshocker designed for use with lamprey ammocoetes. The purpose of the surveys is to identify and map available lamprey rearing habitat in Idaho and to evaluate the effectiveness of lamprey translocation program being conducted by the Nez Perce Tribe. Surveys would be conducted in Clearwater and Salmon Rivers during late summer low flows—approximately from August 15 to September 30 through the year 2020. The research would benefit listed fish by collecting important information on stream and biotic community health—information that would be used to help inform management decisions in the Salmon and Clearwater River subbasins.

The streams would be surveyed at approximately 1 km intervals, focusing on slow water fine substrate areas where lamprey juveniles reside. The researchers would avoid riffles and deep pool areas that are likely to contain salmonids. At each site, approximately 30 m of stream would be surveyed. The researchers would measure and weigh the collected lamprey and then return them to the collection site. The researchers could potentially encounter juvenile SR steelhead during the surveys, but these fish would not be collected or directly sampled in any way. In general, the risk to salmonids from the lamprey electrofisher is very small because few salmonids use the microhabitats (shallow slow water with fine sediments) in which juvenile lamprey tend to be found and because the electrofishing equipment would be set at a low voltage and pulse rate. Therefore the researchers do not intend to kill any listed salmonids, but a few may die as an inadvertent result of the activities.

Permit 20081

The USFWS is seeking a five-year research permit to take MCR steelhead while conducting research on bull trout in the White Salmon River, Washington. Before its removal in 2011, Condit Dam blocked fish access to most of the White Salmon River basin for nearly 100 years. In 2007 and 2010, the USFWS surveyed for and did not find any bull trout in the White Salmon River basin. The conclusion of those surveys was that bull trout were extirpated and the dam was the likely cause. The purpose of USFWS' current research is to evaluate whether or not bull trout have begun to recolonize the White Salmon River basin. The research would benefit listed salmonids by providing information on the rebounding health of the White Salmon system—data that would be used in the ongoing restoration efforts in the area. The USFWS would use backpack electrofishing gear to capture fish and would release juvenile steelhead immediately. The researchers do not expect to kill any steelhead but a small number may die as an unintended result of the research activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 20, 2016.
Angela Somma,
Chief, Endangered Species Division, Office of Protected Resources, National Marine Fisheries Service.

[FR Doc. 2016-09526 Filed 4-22-16; 8:45 am]

BILLING CODE 3510-22-P